FEDERAL COMMUNICATIONS COMMISSION

47 CFR Part 22

[WT Docket No. 97-112, CC Docket No. 90-6, FCC 97-110]

Cellular Service and Other Commercial Mobile Radio Service in the Gulf of Mexico

AGENCY: Federal Communications Commission.

ACTION: Proposed rule; correction.

SUMMARY: On April 25, 2000 (65 FR 24168), the Commission published proposed rules in the Second Further Notice, which proposed changes to its cellular service rules for the Gulf of Mexico Service Area (“GMSA”) and proposed licensing and service rules for operations in the Gulf of Mexico by other commercial mobile radio service providers. This document corrects the Federal Register as it appeared.

DATES: Comments on the Regulatory Flexibility Analysis are due October 26, 2000. Reply comments are due November 13, 2000.

ADDRESSES: All comments and reply comments may be filed with Magalie Roman Salas, Office of the Secretary, TW-A306, Federal Communications Commission, 445 12th Street, SW, Washington, DC 20554.

FOR FURTHER INFORMATION CONTACT: Davida Grant, Commercial Wireless Division, (202) 418-7050.

SUPPLEMENTARY INFORMATION: The Federal Communications Commission published a document proposing to amend part 22 of the Commission's rules in the Federal Register on April 25, 2000 (65 FR 24168). The Commission inadvertently omitted to include the Regulatory Flexibility Analysis and comment dates for the Regulatory Flexibility Analysis. This document corrects the Federal Register as it appeared. In FR Doc. 00-10221, published on April 25, 2000, 65 FR 24168, the Commission is adding the Regulatory Flexibility Analysis immediately preceding the Paperwork Reduction Act on page 24169, in column one.

Electronic and Paper Filing

Comments and reply comments may be filed with the FCC using the Commission's Electronic Comment Filing System (“ECFS”) or by filing paper copies. See Electronic Filing of Documents in Rulemaking Proceedings, 63 FR 24,121 (1998). Parties may also submit an electronic comment by Internet e-mail. Parties who choose to file by paper must file an original and four copies of each filing. If you want each Commissioner to receive a copy of your comments, you must file an original plus eleven copies. All filings must be sent to the Commission's Secretary, Magalie Roman Salas, Office of the Secretary, TW-A306, Federal Communications Commission, 445 12th Street, S.W., Washington, D.C. 20554.

Parties who choose to file by paper should also submit their comments on diskette. A 3.5-inch diskette formatted in an IBM compatible format using Microsoft Word for Windows or compatible software Diskettes should be submitted to: Davida Grant, Federal Communications Commission, Wireless Telecommunications Bureau, 445 12th Street, S.W., Room 4-C241, Washington, D.C. 20554. The diskette should be accompanied by a cover letter and should be submitted in “read only” mode. The diskette should be clearly labeled with the commenter's name, proceeding (including the docket number in this case—WT Docket No. 97-112, CC Docket No. 90-6), type of pleading (comments or reply comments), date of submission, and the name of the electronic file on the diskette. The label also should include the following phrase, “Disk Copy—Not an Original.” Each diskette should contain only one party's pleadings, preferably in a single electronic file. In addition, commenters must send diskette copies to the Commission's copy contractor, International Transcription Service, Inc., 1231 20th Street, N.W., Washington, D.C. 20036.

In FR Doc. 00-10221 published on April 25, 2000 (65 FR 24168) add the following information.

Regulatory Flexibility Act

As required by Section 603 of the Regulatory Flexibility Act, the Commission has prepared an Initial Regulatory Flexibility Analysis (“IRFA”) of the expected impact on small entities of the policies and rules proposed in this Second Further Notice of Proposed Rule Making. Written public comments are requested on the IRFA. Comments must be identified as responses to the IRFA and must be filed by the deadlines for comments on the Second Further Notice of Proposed Rule Making provided above in section V(D). The Secretary shall send a copy of this Notice, including the IRFA, to the Chief Counsel for Advocacy of the Small Business Administration in accordance with paragraph 603(a) of the Regulatory Flexibility Act.

Reason for Action: In order to reexamine our cellular service rules as they apply to the Gulf of Mexico Service Area (“GMSA”) we initiated this rulemaking proceeding. Since the establishment of the GMSA, conflict has arisen between the GMSA licensees, and the land-based cellular service providers in the Gulf of Mexico Region over the provision of service to coastal areas. Further, the United States Court of Appeals for the District of Columbia Circuit has instructed us to reexamine certain of our cellular licensing policies insofar as they apply to GMSA licensees.¹

¹ Petroleum Comms., Inc. v. FCC, 22 F.3d 1164 (D.C. Cir. 1994).

Objectives: Our objectives in this rulemaking proceeding are (1) to establish comprehensive rules that will reduce conflict between GMSA licensees and land-based cellular service providers, (2) provide regulatory flexibility, to GMSA licensees, that recognizes the inherent transitory nature of water-based cellular cites, and (3) award licenses so as to maximize the use of spectrum in, and provide high quality service to, highly traveled coastal waters.

Legal Basis: The proposed action is authorized under the Communications Act, Sections 4(i), 7, 303(c), 303(f), 303(g), 303(r), and 332, 47 U.S.C. §§ 154(i), 303(c), 303(f), 303(g), 303(r), 332, as amended.

Description of and, Number of, Small Entities Affected by the Proposed Rule: The rule changes proposed in this proceeding will affect all small businesses which provide cellular service in the GMSA or coastal areas. The Commission will be required, in its Final Regulatory Flexibility Analysis, to estimate the number of small entities to which the rule will apply, provide a description of such entities, and assess the impact of the rule on such entities. To assist in this analysis, commenters are requested to provide information regarding how many total entities, existing and potential, will be affected by the rules proposed in this Second Further Notice of Proposed Rulemaking. We particularly seek estimates of the number of entities, existing and potential, that will be considered small businesses. The definition of “small business” approved by the Small Business Administration, and used in the PCS C-Block auction, is a firm that has had revenues of less than $40 million in each of the last three calendar years.² We seek comment as to whether it would be appropriate to extend this definition to this context. We further request that each commenter identify whether it is a small business under this definition. If the commenter is a subsidiary of another entity, this information should be provided for both subsidiary and the parent entity.

² See Implementation of Section 309(j) of the Communications Act — Competitive Bidding, PP Docket No. 93-253, Fifth Report and Order, 9 FCC Rcd 5532, 5608, ¶ 175 (1994).

Reporting, Recordkeeping, and Other Compliance Requirements: This information is supplied in the Paper Work reduction Act, infra.

Federal Rules Which Overlap, Duplicate or Conflict With These Rules: None.

Any Significant Alternatives Minimizing the Impact on Small Entities Consistent with the Stated Objectives: The objective of the current rulemaking proceeding is to improve the quality of service provided in the Gulf region, and to establish rules that accurately reflect the realities of both water-based and land-based service providers. To the extent that this rulemaking modifies existing regulations, it is our objective to communicate a benefit to all service providers in the Gulf region without regard to the size of the entity. The impact on small entities in the proposals in the Second Further Notice of Proposed Rulemaking is the opportunity to provide service in accordance with a regulatory framework that accurately reflects the geographic and demographic realities of the region. Given the low burden of compliance, reporting, and performance requirements for the provision of cellular service, no alternatives to these requirements were deemed necessary for small entities. This Second Further Notice of Proposed Rulemaking solicits comment on the variety of alternatives discussed herein, any significant alternatives submitted in the comments will be considered.

Federal Communications Commission.
Magalie Roman Salas,
Secretary.

[FR Doc. 00-24643 Filed 9-25-00; 8:45 am]

BILLING CODE 6712-01-P